DEPARTMENT OF DEFENSE

Office of the Secretary

[Transmittal No. 25-101]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-101, Policy Justification, and Sensitivity of Technology.

Dated: January 29, 2026.
Stephanie J. Bost,
Alternate OSD Federal Register Liaison Officer, Department of Defense.

BILLING CODE 6001-FR-P

BILLING CODE 6001-FR-C

Transmittal No. 25-101

Notice of Proposed Issuance of Letter of Offer Pursuant to Section 36(b)(1) of the Arms Export Control Act, as amended

(i) Prospective Purchaser: Government of Denmark

(ii) Total Estimated Value:

Major Defense Equipment | $42 million
Other | $ 3 million
TOTAL | $45 million

(iii) Description and Quantity or Quantities of Articles or Services under Consideration for Purchase:

Major Defense Equipment (MDE):

One Hundred (100) AGM-114R Hellfire missiles

Three (3) AGM-114R Captive Air Training Missile units

Six (6) M299 launchers

Two (2) MHU-191A/M trailers

Three (3) BRU-14 bomb racks

Non-Major Defense Equipment:

The following non-MDE items will also be included: containers, training aids, weapon software, training, support equipment, spare and repair parts, publications and technical documentation, and transportation; United States (U.S.) Government and contractor engineering, technical, and logistical support services; and other related elements of logistical and program support.

(iv) Military Department: Navy (DE-P-AEJ)

(v) Prior Related Cases, if any: None

(vi) Sales Commission, Fee, etc., Paid, Offered, or Agreed to be Paid: None known at this time

(vii) Sensitivity of Technology Contained in the Defense Article or Defense Services Proposed to be Sold: See Attached Annex

(viii) Date Report Delivered to Congress: January 8, 2026

* as defined in Section 47(6) of the Arms Export Control Act.

POLICY JUSTIFICATION

Denmark—AGM-114R Hellfire Missiles

The Government of Denmark has requested to buy up to one hundred (100) AGM-114R Hellfire missiles; three (3) AGM-114R Captive Air Test Missiles; six (6) Hellfire (Longbow) M299 Hellfire Launchers; two (2) MHU-191/M trailers; and three (3) BRU-14 bomb racks. The following non-MDE items will be included: containers, training aids, weapon software, training, support equipment, spare and repair parts, publications and technical documentation, and transportation; U.S. Government and contractor engineering, technical, and logistical support services; and other related elements of logistical and program support. The estimated total cost is $45 million.

This proposed sale will support the foreign policy goals and national security objectives of the U.S. by improving the security of a NATO Ally that is a force for political stability and economic progress in Europe.

The proposed sale will improve Denmark's capability to meet current and future threats by ensuring aviation forces' interoperability with U.S. and other allied forces as well as their ability to contribute to missions of mutual interest by delivering follow-on support and sustainment. By operating the AGM-114R Hellfire missiles, Denmark contributes to global readiness and enhances the capability for the U.S. forces operating globally alongside them. Denmark will have no difficulty absorbing these articles and services into its armed forces.

The proposed sale of this equipment and support will not alter the basic military balance in the region.

The principal contractor will be Lockheed Martin Missile and Defense, Ocala, FL. At this time, the U.S. Government is not aware of any offset agreement proposed in connection with this potential sale. Any offset agreement with be defined in negotiations.

Implementation of the proposed sale will not require the assignment of U.S. Government and contractor representatives to Denmark on a temporary basis in conjunction with program technical oversight and support requirements.

There will be no adverse impact on U.S. defense readiness as a result of this proposed sale.

Transmittal No. 25-101

Notice of Proposed Issuance of Letter of Offer Pursuant to Section 36(b)(1) of the Arms Export Control Act

Annex

Item No. vii

(vii) Sensitivity of Technology:

1. The Hellfire missile is a precision air-to-ground missile primarily used to target a variety of threats including tanks, armored vehicles, bunkers, and even other aircraft. The AGM-114R provides a semi-active laser guidance system and a multi-purpose warhead, allowing it to effectively engage a wide range of targets, including armored vehicles, fortified positions, and soft targets.

2. The highest level of classification of defense articles, components, and services included in this potential sale is SECRET.

3. If a technologically advanced adversary were to obtain knowledge of the specific hardware and software elements, the information could be used to develop countermeasures that might reduce system effectiveness or be used in the development of a system with similar or advanced capabilities.

4. A determination has been made that Denmark can provide substantially the same degree of protection for the sensitive technology being released as the U.S. Government. This sale is necessary in furtherance of the U.S. foreign policy and national security objectives outlined in the Policy Justification.

5. All defense articles and services listed in this transmittal have been authorized for release and export to the Government of Denmark.

[FR Doc. 2026-02078 Filed 1-30-26; 8:45 am]

BILLING CODE 6001-FR-P